DEPARTMENT OF ENERGY

Bonneville Power Administration

Schultz-Hanford Area Transmission Line Project

AGENCY: Bonneville Power Administration (BPA), Department of Energy (DOE).

ACTION: Notice of availability of Record of Decision (ROD).

SUMMARY: This notice announces the availability of the ROD to construct the proposed Schultz-Hanford Area Transmission Line Project in Douglas, Grant, Lincoln, and Spokane Counties, Washington, based on the Final Environmental Impact Statement for this project (DOE/EIS-0325, January 2003). The proposed action consists of constructing a new 500-kilovolt (kV) transmission line between the Schultz Substation north of Ellensburg, Washington, and a new substation, Wautoma Substation, 2 miles south of Highway 24 in Benton County, Washington, a distance of about 64 miles.

ADDRESSES: Copies of the ROD and EIS may be obtained by calling BPA toll-free at 1-888-276-7790. The ROD and EIS Summary are also available on the Transmission Business Line Web site at http://www.transmission.bpa.gov/projects.

FOR FURTHER INFORMATION CONTACT: Nancy A. Wittpenn, Bonneville Power Administration—KEC-4, P.O. Box 3621, Portland, Oregon, 97208-3621; toll-free telephone number 1-800-282-3713; fax number 503-230-5699; or e-mail nawittpenn@bpa.gov.

SUPPLEMENTARY INFORMATION: BPA has decided to implement the Agency Preferred Alternative identified in the Schultz-Hanford Area Transmission Line Project Final EIS, with the exception of Option 1 of the Sickler-Schultz Reroute. Due to landowner concerns, BPA will now implement Option 2 of the Sickler-Schultz Reroute. The Agency Preferred Alternative will primarily use 500-kV single-circuit steel lattice structures. Through an agricultural area near Mattawa, for approximately 9 miles, 500-kV double-circuit lattice structures will be used to hold the new 500-kV line and the existing Midway-Vantage 230-kV line. New right-of-way of 150 to 180 feet will be needed for the new line. As part of the Agency Preferred Alternative, BPA has decided to construct new and upgrade existing access roads; construct a new bay within the existing fenced yard of the Schultz Substation; re-route the existing Sickler-Schultz 500-kV transmission line; construct a new substation called Wautoma Substation, in Benton County; loop the existing Hanford-Ostrander 500-kV and Hanford-John Day 500-kV transmission lines through the Wautoma Substation; and install fiber optic cable between the Vantage Substation and the new Wautoma Substation, and the Vantage Substation and the Columbia Substation. All mitigation measures have been adopted and included with the ROD. A Mitigation Action Plan will be prepared to be included in the construction specifications to ensure mitigation measures are implemented.

Issued in Portland, Oregon, on March 17, 2003.
Stephen J. Wright,
Administrator and Chief Executive Officer.

[FR Doc. 03-7025 Filed 3-24-03; 8:45 am]

BILLING CODE 6450-01-P